DEPARTMENT OF AGRICULTURE

Forest Service

Sacred Sites; Executive Order 13007

AGENCY: Forest Service, USDA.

ACTION: Public notice; request for comment.

SUMMARY: A draft report concerning U.S. Department of Agriculture (USDA) and U.S. Forest Service Native American Sacred Sites policies and procedures is available for review and comment at http://www.fs.fed.us/spf/tribalrelations/sacredsites.

DATES: Comments must be received in writing on or before October 4, 2011 to be assured of consideration. Comments received after that date will be considered to the extent possible.

ADDRESSES: Public comments concerning this notice should be addressed to U.S. Forest Service, Office of Tribal Relations, Ericka Luna, 1400 Independence Ave., SW., Mailstop Code: 1160, Washington, DC 20250-1160. Comments also may be submitted via facsimile to Ericka Luna at 202-205-1773 or by e-mail to sacredsitescomment@fs.fed.us.

FOR FURTHER INFORMATION CONTACT: Fred Clark, USDA, Forest Service, Washington Office, Office of Tribal Relations, 202-205-1514 or fclark@fs.fed.us. Individuals who use telecommunication devices for the deaf (TDD) may call the Federal Relay Service (FRS) at 1-800-877-8339 between 8 a.m. and 8 p.m., Eastern Standard Time, Monday through Friday.

SUPPLEMENTARY INFORMATION: This draft report to the Secretary of Agriculture, Thomas J. Vilsack evaluates the current condition of Native American Sacred Sites protection, pursuant to Executive Order 13007 and other policies and procedures, on National Forest System (NFS) lands throughout the United States. The Secretary requested information about the unintended consequences of land management decisions affecting Native American Sacred Sites and communities whose cultural survival is connected to these sites.

In response to Secretary Vilsack's request, USDA's Office of Tribal Relations and the Forest Service formed a team to talk to Tribes and other Native American communities about how the Agency can do a better job incorporating Sacred Sites issues into the Agency's mission to deliver forest goods and services for current and future generations on NFS lands. Over 50 meetings (listening sessions) were held across the Nation. The meetings were held in Indian Country, Alaska Native villages, telephonically and face-to-face, at inter-tribal venues, and at numerous other locations as requested by the Tribes. These listening sessions engaged not only tribal leadership but also culture keepers, traditional practitioners, and unaffiliated native descendants. The team conducting this review also surveyed Forest Service line officers and program managers to learn their thoughts and observations about the effectiveness of the Agency's efforts to manage land that includes Sacred Sites. The review included a synthesis of current laws, rules, regulations, and policies that affect the Agency's ability to protect Sacred Sites.

The draft report, and other associated information, is available at: http://www.fs.fed.us/spf/tribalrelations/sacredsites.

The draft report will be made available to federally recognized Tribes and to Alaska Native Claims Settlement Act (ANCSA) Corporations (as required by 25 U.S.C. 450(b)) for consultation consistent with Executive Order 13175. Federally recognized Tribes and ANCSA Corporations will be directly contacted by USDA or the Forest Service. We will incorporate what we hear during government-to-government consultation with Tribes and government-to-corporation consultation with ANCSA Corporations into the final report, which is anticipated to be submitted to the Secretary early in 2012. In addition, public comments will be summarized as part of the final report. Public comments should be submitted as listed under ADDRESSES. All comments received in response to this notice, including names and addresses when provided, will be a matter of public record.

As a result of this review, if the Secretary directs policy change or other agency action, the need for additional consultation or public comment and publication in the Federal Register will be determined by the scope and extent of the proposed changes.

Authority: Executive Orders 13007 and 13175.

Dated: August 1, 2011.
Joel D. Holtrop,
Deputy Chief, National Forest System.

[FR Doc. 2011-19849 Filed 8-4-11; 8:45 am]

BILLING CODE 3410-11-P